DEPARTMENT OF TRANSPORTATION

Federal Aviation Administration

14 CFR Part 71

[Airspace Docket No. 02-AAL-1]

Proposed Amendment of Class E Airspace; Merle K. (Mudhole) Smith Airport, Cordova, AK

AGENCY: Federal Aviation Administration (FAA), DOT.

ACTION: Notice of proposed rulemaking.

SUMMARY: This action proposes to amend Class E airspace at Cordova, AK. An airspace review was conducted for the Merle K. (Mudhole) Smith airport as a result of the development of a new Area Navigation (RNAV) Global Positioning System (GPS)—B standard instrument approach procedure. Additional Class E surface area airspace is needed to protect instrument flight rules (IFR) operations at Cordova, AK. The additional Class E surface area airspace will ensure that aircraft executing straight-in standard instrument approach procedures to Runway 27 remain within controlled airspace. Adoption of this proposal would result in additional Class E airspace at Cordova, AK and in the re-designation of class E surface area extensions.

DATES: Comments must be received on or before March 25, 2002.

ADDRESSES: Send comments on the proposal in triplicate to: Manager, Operations Branch, AAL-530, Docket No. 02-AAL-1, Federal Aviation Administration, 222 West 7th Avenue, Box 14, Anchorage, AK 99513-7587.

The official docket may be examined in the Office of the Regional Counsel for the Alaskan Region at the same address.

An informal docket may also be examined during normal business hours in the Office of the Manager, Operations Branch, Air Traffic Division, at the address shown above and on the Internet at Alaskan Region's homepage at http://www.alaska.faa.gov/at or at address http://162.58.28.41/at.

FOR FURTHER INFORMATION CONTACT: Derril Bergt, AAL-538, Federal Aviation Administration, 222 West 7th Avenue, Box 14, Anchorage, AK 99513-7587; telephone number (907) 271-2796; fax: (907) 271-2850; e-mail: Derril.CTR.Bergt@faa.gov. Internet address: http://www.alaska.faa.gov/at or at address http://162.58.28.41/at.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal. Communications should identify the airspace docket number and be submitted to the address listed above. Commenters wishing the FAA to acknowledge receipt of their comments on this action must submit with those comments a self-addressed, stamped postcard on which the following statement is made: “Comments to Airspace Docket No. 02-AAL-1.” The postcard will be date/time stamped and returned to the commenter. All communications received on or before the specified closing date for comments will be considered before taking action on the proposed rule. The proposal contained in this action may be changed in light of comments received. All comments submitted will be available for examination in the Operations Branch, Air Traffic Division, Federal Aviation Administration, 222 West 7th Avenue, Box 14, Anchorage, AK, both before and after the closing date for comments. A report summarizing each substantive public contact with FAA personnel concerned with this rulemaking will be filed in the docket.

Availability of Notice of Proposed Rulemaking's (NPRM's)

An electronic copy of this document may be downloaded, using a modem and suitable communications software, from the FAA regulations section of the Fedworld electronic bulletin board service (telephone: 703-321-3339) or the Federal Register's electronic bulletin board service (telephone: 202-512-1661).

Internet users may reach the Federal Register's web page for access to recently published rulemaking documents at http://www.access.gpo.gov/su_docs/aces/aces140.html.

Any person may obtain a copy of this NPRM by submitting a request to the Operations Branch, AAL-530, Federal Aviation Administration, 222 West 7th Avenue, Box 14, Anchorage, AK 99513-7587. Communications must identify the docket number of this NPRM. Persons interested in being placed on a mailing list for future NPRM's should contact the individual(s) identified in the FOR FURTHER INFORMATION CONTACT section.

The Proposal

The FAA proposes to amend 14 CFR part 71 by adding Class E surface area airspace at Cordova, AK. The intended effect of this proposal is to add Class E surface area airspace necessary to contain IFR operations at the Merle K. (Mudhole) Smith airport, Cordova, AK. In addition, extensions to the Class E surface area have been previously designated incorrectly. This proposal would re-designate those extensions from E2 surface area airspace to E4 surface area extension airspace.

The FAA is adding a standard instrument approach procedure to the Merle K. (Mudhole) Smith airport. The new approach name is “RNAV (GPS)—B” and is designed to be a circling approach to the airport. The “RNAV (GPS)—B” approach begins southwest of the Merle K. (Mudhole) Smith airport with an inbound course of 062§ true. Although the Class E airspace surrounding the Merle K. (Mudhole) Smith airport is sufficient to contain the “RNAV (GPS)—B” instrument approach procedure, it was found during the airspace review for the new approach that an extension to Class E surface area airspace must be made to ensure that the instrument approach procedures that are aligned with Runway 27 at the Merle K. (Mudhole) Smith airport are entirely contained within controlled airspace. In addition, it was found that airspace within a 4.1mile radius of the Merle K. (Mudhole) Smith airport is correctly designated as Class E2 airspace. However, all extensions here-to-fore designated as Class E2 surface areas beyond the 4.1 mile radius should be re-designated as Class E4 surface area airspace.

The proposed Class E surface area airspace would be depicted on aeronautical charts for pilot reference. The coordinates for this airspace docket are based on North American Datum 83. The Class E2 airspace areas designated as surface areas are published in paragraph 6002 in FAA Order 7400.9J; the Class E4 airspace areas designated as an extension to a Class D or Class E surface area are published in paragraph 6004 in FAA Order 7400.9J; Airspace Designations and Reporting Points, dated August 31, 2001, and effective September 16, 2001, which is incorporated by reference in 14 CFR 71.1. The Class E airspace designations listed in this document would be published subsequently in the Order.

The FAA has determined that this proposed regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (air).

The Proposed Amendment

In consideration of the foregoing, the Federal Aviation Administration proposes to amend 14 CFR part 71 as follows:

PART 71—DESIGNATION OF CLASS A, CLASS B, CLASS C, CLASS D, AND CLASS E AIRSPACE AREAS; AIRWAYS; ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of Federal Aviation Administration Order 7400.9J, Airspace Designations and Reporting Points, dated August 31, 2001, and effective September 16, 2001, is amended as follows:

* * * * *

Paragraph 6002 Class E airspace designated as surface areas.

* * * * *

AAL AK E2 Cordova, AK [REVISED]

Cordova, Merle K. (MUDHOLE) Smith Airport, AK

(Lat. 60°29′31″ N., long. 145°28′39″ W.)

Glacier River NDB

(Lat. 60°29′56″ N., long. 145°28′28″ W.)

Within a 4.1-mile radius of the Merle K. (MUDHOLE) Smith airport excluding that airspace north of a line from lat. 60°32′48″ N, long. 145°34′06″ W; to lat. 60°31′00″ N, long. 145°20′00″ W.

Paragraph 6004 Class E airspace designated as an extension to a class D or class E surface area.

* * * * *

AAL AK E4 Cordova, AK [NEW]

Cordova, Merle K. (MUDHOLE) Smith Airport, AK

(Lat. 60°29′31″ N., long. 145°28′39″ W.)]

Glacier River NDB

(Lat. 60°29′56″ N., long. 145°28′28″ W.)

That airspace from a 4.1-mile radius of the Merle K. (MUDHOLE) Smith airport and within 2.1 miles each side of the 222° bearing from the Glacier River NDB extending from the 4.1-mile radius to 10 miles southwest of the airport and within 2 miles either side of the 114° bearing from the Glacier River NDB extending from the 4.1-mile radius to 6 miles southeast of the airport and within 2.2 miles each side of the 142° bearing from the NDB extending from the 4.1-mile radius to 10.4 miles southeast of the airport.

* * * * *

Issued in Anchorage, AK, on January 18, 2002.
Stephen P. Creamer,
Assistant Manager, Air Traffic Division, Alaskan Region.

[FR Doc. 02-2408 Filed 2-5-02; 8:45 am]

BILLING CODE 4910-13-P